DEPARTMENT OF TRANSPORTATION

Federal Aviation Administration

14 CFR Part 39

[Docket No. FAA-2007-0036; Directorate Identifier 2007-NE-22-AD; Amendment 39-15636; AD 2008-16-18]

RIN 2120-AA64

Airworthiness Directives; Rolls-Royce plc RB211-524 Series Turbofan Engines; Correction

AGENCY: Federal Aviation Administration, DOT.

ACTION: Final rule; correction.

SUMMARY: This document makes a correction to Airworthiness Directive (AD) 2008-16-18. That AD applies to Rolls-Royce (RR) RB211-524 series turbofan engines with certain high pressure (HP) turbine disks installed. That AD was published in the Federal Register on August 11, 2008 (73 FR 46550). Paragraph (c) in the regulatory section is incorrect. This document corrects that paragraph. In all other respects, the original document remains the same.

DATES: Effective Date: Effective September 8, 2008.

FOR FURTHER INFORMATION CONTACT: Jason Yang, Aerospace Engineer, Engine Certification Office, FAA, Engine & Propeller Directorate, 12 New England Executive Park, Burlington, MA 01803; e-mail: jason.yang@faa.gov; telephone (781) 238-7747; fax (781) 238-7199.

SUPPLEMENTARY INFORMATION: On August 11, 2008 (73 FR 46550), we published a final rule AD, FR Doc. E8-18102, in the Federal Register. That AD applies to RR RB211-524 series turbofan engines. We need to make the following correction:

§ 39.13 [Corrected]

On page 46551, in the first column, in the Regulatory Section, in the Applicability paragraph (c), in the second line, “with certain high pressure (HP) turbine discs installed” is corrected to read “with high pressure (HP) turbine discs, part numbers (P/Ns)-serial numbers (SNs) FK24651-LAQDY6061 and -LDRCZ10453 to -LDRCZ10720, and -LQDY9903, and -LQDY9924, FK24790-CRCZ6 to -CRCZ25 and -LDRCZ10717 to -LDRCZ14022, UL23166-LQDY6516 to -LQDY8718, UL24561-LQDY6389 to -LQDY6438, UL24994-LQDY6405 to -LQDY8727, UL29472-LAQDY6013 to -LAQDY6092 and -LDRCZ10029 to -LDRCZ10821 and -LDRCZ6000 to -LDRCZ6060 and -LQDY6592 to -LQDY9993, UL29473-CRCZ24 to -CRCZ25 and -CZ12135 to -CZ12333 and -LAQDY6010 to -LAQDY6088 and -LDRCZ10003 to -LDRCZ15372 and -LDRCZ6001 to -LDRCZ9995 and -LQDY10001 and -LQDY9606 to -LQDY9989, installed”.

Issued in Burlington, Massachusetts, on August 28, 2008.
Marc Bouthillier,
Acting Manager, Engine and Propeller Directorate, Aircraft Certification Service.

[FR Doc. E8-20498 Filed 9-5-08; 8:45 am]

BILLING CODE 4910-13-P